DEPARTMENT OF COMMERCE

National Oceanic and Atmospheric Administration

[RTID 0648-XC644]

North Pacific Fishery Management Council; Public Meeting

AGENCY: National Marine Fisheries Service (NMFS), National Oceanic and Atmospheric Administration (NOAA), Commerce.

ACTION: Notice of hybrid meeting.

SUMMARY: The North Pacific Fishery Management Council (Council) Crab Plan Team will meet January 17, 2023, to January 20, 2023.

DATES: The meeting will be held on Tuesday, January 17, 2023, through Friday, January 20, 2023, from 8:30 a.m. to 4:30 p.m. AK time.

ADDRESSES: The meeting will be a hybrid meeting. Attend in-person at the North Pacific Fishery Management Council office, 1007 West Third Ave., Suite 400, Anchorage, AK 99501, or join the meeting online through the link at https://meetings.npfmc.org/Meeting/Details/2968.

Council address: North Pacific Fishery Management Council, 1007 West 3rd Ave., Anchorage, AK 99501-2252; telephone: (907) 271-2809. Instructions for attending the meeting via video conference are given under SUPPLEMENTARY INFORMATION, below.

FOR FURTHER INFORMATION CONTACT: Sarah Rheinsmith, Council staff; phone: (907) 271-2809; email: sarah.rheinsmith@noaa.gov. For technical support, please contact our admin Council staff, email: npfmc.admin@noaa.gov.

SUPPLEMENTARY INFORMATION:

Agenda

Tuesday, January 17, 2023, Through Friday, January 20, 2023

The agenda will include: (a) a stock assessment modeling workshop; (b) Economic appendix of the Stock Assessment and Fishery Evaluation (SAFE) report; (c) Norton Sound Red King Crab (NSRKC)—final SAFE report chapter; (d) Snow crab Rebuilding plan update; (e) Crab Conservation actions Prioritization; (f) Aleutian Islands Golden King Crab (AIGKC) proposed model runs; (g) Pribilof Islands Red King Crab (PIGKC) proposed model runs; (h) guidelines for moving start date of models; (i) simpler modeling workshop proposal; (j) Bristol Bay Red King Crab (BBRKC) bycatch distribution models; (k) tagging updates; (l) Ocean Acidification; and (m) additional topics. The agenda is subject to change, and the latest version will be posted at https://meetings.npfmc.org/Meeting/Details/2968 prior to the meeting, along with meeting materials.

Connection Information

You can attend the meeting online using a computer, tablet, or smart phone, or by phone only. Connection information will be posted online at: https://meetings.npfmc.org/Meeting/Details/2968.

Public Comment

Public comment letters will be accepted and should be submitted electronically to https://meetings.npfmc.org/Meeting/Details/2968.

Authority: 16 U.S.C. 1801 et seq.

Dated: December 27, 2022.
Rey Israel Marquez,
Acting Deputy Director, Office of Sustainable Fisheries, National Marine Fisheries Service.

[FR Doc. 2022-28464 Filed 12-29-22; 8:45 am]

BILLING CODE 3510-22-P